DEPARTMENT OF HEALTH AND HUMAN SERVICES

National Institutes of Health

Center for Scientific Review; Amended Notice of Meeting

Notice is hereby given of a change in the meeting of the Virology-B Study Section, October 17, 2013, 8:30 a.m. to October 18, 2013, 5:00 p.m., Sheraton Gunter Hotel, 205 East Houston St., San Antonio, TX 78205 which was published in the Federal Register on September 20, 2013, 78 FR 183, Pgs. 57866-57867.

The meeting will start on November 21, 2013 at 8:30 a.m. and end on November 22, 2013 at 5:00 p.m.

The meeting location remains the same. The meeting is closed to the public.

Dated: October 25, 2013.
Anna Snouffer,
Deputy Director, Office of Federal Advisory Committee Policy.

[FR Doc. 2013-25895 Filed 10-30-13; 8:45 am]

BILLING CODE 4140-01-P